DEPARTMENT OF LABOR

Employment and Training Administration

[TA-W-71,572; TA-W-71,572A; TA-W-71,572B; TA-W-71,572C]

Notice of Affirmative Determination Regarding Application for Reconsideration: TA-W-71,572, Severstal Wheeling, Inc., a Subsidiary of Severstal North America, Inc., Martins Ferry, OH; TA-W-71,572A, Severstal Wheeling, Inc., a Subsidiary of Severstal North America, Inc., Yorkville, OH; TA-W-71,572B, Severstal Wheeling, Inc., a Subsidiary of Severstal North America, Inc., Mingo Junction, OH; TA-W-71,572C, Severstal Wheeling, Inc., a Subsidiary of Severstal North America, Inc., Steubenville, OH

By applications dated May 15 and May 21, 2010, United Steel, Paper and Forestry, Rubber, Manufacturing, Energy, Allied Industrial and Service Workers International Union (USW), requested administrative reconsideration of the negative determination regarding workers' eligibility to apply for Trade Adjustment Assistance (TAA) applicable to workers and former workers of the subject firm. The determination was issued on March 3, 2010, and the Notice of determination was published in the Federal Register on April 23, 2010 (75 FR 21363).

The subject workers produce galvanized coil (TA-W-71,572), cold rolled coils and back plate coils (TA-W-71,572A), hot rolled coils (TA-W-71,572B), and cold rolled coils (TA-W-71,572C).

The negative determination was based on the findings that there was no increase in imports of like or directly competitive articles produced at subject facilities and no shift to/acquisition from a foreign country by the subject firm of like or directly competitive articles produced at the subject facilities.

The investigation also revealed that the firm did not produce an article or supply a service that was used by a firm with TAA-certified workers in the production of an article or supply of a service that was the basis for TAA certification.

The Department of Labor has carefully reviewed the request for reconsideration and the existing record, and has determined that the Department will conduct further investigation to determine if the workers meet the eligibility requirements of the Trade Act of 1974.

Conclusion

After careful review of the application, I conclude that the claim is of sufficient weight to justify reconsideration of the U.S. Department of Labor's prior decision. The application is, therefore, granted.

Signed at Washington, DC, this 15th day of October 2010.
Elliott S. Kushner,
Certifying Officer, Office of Trade Adjustment Assistance.

[FR Doc. 2010-27381 Filed 10-28-10; 8:45 am]

BILLING CODE 4510-FN-P